DEPARTMENT OF TRANSPORTATION

National Highway Traffic Safety Administration

[Docket No. NHTSA-2013-0002]

Reports, Forms, and Recordkeeping Requirements

AGENCY: National Highway Traffic Safety Administration (NHTSA), Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on January 11, 2013.

DATES: Comments must be received on or before May 30, 2013.

ADDRESSES: Send comments, within 30 days, to the Office of Information and Regulatory Affairs, Office of Management and Budget, 725-17th Street NW., Washington, DC 20503, Attention: NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A Comment to OMB is most effective if OMB receives it within 30 days of publication.

FOR FURTHER INFORMATION CONTACT: Mike Joyce, NHTSA, 1200 New Jersey Avenue SE., W52-238, NPO-520, Washington, DC 20590. Mr. Joyce's telephone number is (202) 366-5600 and email address is mike.joyce@dot.gov.

Docket: For access to the docket to read background documents, go to http://www.regulations.gov, or the street address listed above. Follow the online instructions for accessing the dockets.

SUPPLEMENTARY INFORMATION: In compliance with the Paperwork Reduction Act of 1995, NHTSA previously opened a docket for a 60-day comment period. Based upon comment to the docket, NHTSA modified its research plan. This notice announces that the ICR abstracted below has been forwarded to OMB for review and comment. The ICR describes the nature of the information collection and the expected burden. This is a request for new collection.

Title: Advanced Crash Avoidance Technologies Consumer Research.

OMB Control Number: 2127-XXXX.

Form Number: None.

Type of Request: New collection.

Affected Public: For the focus group phase of this collection, NHTSA plans to conduct a total of 9 focus groups, each lasting approximately two hours. In each group, 8 participants will be seated. Therefore, a total of 72 people will participate in the group sessions. For recruiting of these participants, however, a total of 108 potential participants (12 per group) will be recruited via telephone screening calls, which are estimated to take 10 minutes per call. Based on experience, it is prudent to recruit up to 12 people per group in order to ensure at least 8 will appear at the focus group facility at the appointed time.

Thus, the total burden per person actually participating in this focus group phase of research is estimated to be 130 minutes (10 minutes for the screening/recruiting telephone call plus 120 minutes in the focus group discussion session). Additionally, the total burden per person recruited (but not participating in the discussions) is 10 minutes. Therefore, the total annual estimated burden imposed by this portion of the collection is approximately 162 hours.

NHTSA also plans to conduct eight 30-minute dealer interviews. Accounting for recruiting and interviewing time, the total annual estimated burden imposed by this portion of the collection is approximately 8 hours.

In total, the annual estimated burden imposed by this collection of information is approximately 170 hours.

Estimated Total Annual Burden: 170 hours.

Number of Respondents: 80.

Abstract: The National Highway Traffic Safety Administration (NHTSA) was established by the Highway Safety Act of 1970 (23 U.S.C. 101) to carry out a Congressional mandate to reduce the mounting number of deaths, injuries, and economic losses resulting from motor vehicle crashes on the Nation's highways. In support of this mission, NHTSA proposes to conduct a limited number of focus group sessions and in-depth interviews with members of the general public to help inform future revisions to the Monroney label and guide the development of a consumer education program. In addition, this consumer research will help to ensure that various advanced crash avoidance technologies the agency promotes are important and usable to consumers, and the information provided leads to consumer understanding of the benefits of these technologies.

In this collection of information, NHTSA is seeking approval to conduct qualitative consumer research and in-depth interviews to test consumer familiarity and understanding of advanced crash avoidance technology systems so that labeling and consumer materials will help consumers make informed vehicle purchase decisions. Specifically, this research will be guided by the following objectives:

(i) Explore consumer familiarity with and understanding of advanced crash avoidance technologies;

(ii) Explore potential nomenclature and rating systems that can be used to communicate information about advanced crash avoidance technologies;

(iii) Guide considerations for design modifications of current New Car Assessment Program Government 5-Star Safety Ratings label to include information about advanced crash avoidance technologies;

(iv) Guide the development of a consumer information program to improve awareness and understanding of advanced crash avoidance technologies.

On January 11, 2013, NHTSA published the 60-day notice requesting public comment on the proposed collection of information to the Federal Register on January 11, 2013. One comment was received from Agero, Inc, which expressed support for this research plan. Specifically, Agero requested NHTSA explore technologies such as advanced automatic crash notification and other technologies to determine how best to provide consumers with meaningful, useful information. They have also requested exploring standard nomenclature, communication channels and the potential impact that including technologies on the Monroney Label has on a consumer's likelihood to seek more information—all of which are goals for the focus group research.

Requested Expiration Date of Approval: Three years from approval date.

Gregory A. Walter,
Senior Associate Administrator, Policy and Operations.

[FR Doc. 2013-10126 Filed 4-29-13; 8:45 am]

BILLING CODE 4910-59-P